ENVIRONMENTAL PROTECTION AGENCY

40 CFR Part 52

[EPA-R01-OAR-2015-0402; FRL-9945-13-Region 1]

Air Plan Approval; Rhode Island; Infrastructure State Implementation Plan Requirements for Particle Matter, Ozone, Lead, Nitrogen Dioxide and Sulfur Dioxide

Correction

In rule document 2016-08913, appearing on pages 23175-23180 in the issue of Wednesday, April 20, 2016, make the following correction:

On page 23177, in the first column, in the first paragraph following the table, lines 1-23, should read as follows:

In the above table, the key is as follows:

A Approve

A* Approve, but conditionally approve aspect of PSD program relating to the identification of NOX as a precursor for ozone and addressing the changes made to 40 CFR part 51.116 in EPA's October 20, 2010 rulemaking (75 FR 64864) concerning emissions of fine particulate.

D Disapprove, but no further action required because federal regulations already in place.

+ Not germane to infrastructure SIPs.

NI Not included in the September 10, 2008 (PM2.5), January 2, 2013 (ozone and NO2), and May 30, 2013 (SO2) submittals which are the subject of today's action.

NT Not taking action in today's action.

NS No Submittal.

NA Not applicable.

[FR Doc. C1-2016-08913 Filed 8-25-16; 8:45 am]

BILLING CODE 1505-01-D